DEPARTMENT OF THE INTERIOR

National Park Service

Notice of Intent to Repatriate Cultural Items in the Possession of the Alaska State Office, Bureau of Land Management, Anchorage, AK

AGENCY: National Park Service

ACTION: Notice

Notice is hereby given under the Native American Graves Protection and Repatriation Act, 43 CFR 10.10 (a)(3), of the intent to repatriate cultural items in the possession of the Alaska State Office, Bureau of Land Management, Anchorage, AK that meet the definition of unassociated funerary object under Section 2 of the Act.

This notice is published as part of the National Park Service's administrative responsibilities under NAGPRA, 43 CFR 10.2 (c). The determinations within this notice are the sole responsibility of the museum, institution, or Federal agency that has control of these cultural items. The National Park Service is not responsible for the determinations within this notice.

The 302 cultural items are stone and antler arrowheads and arrowhead fragments, chert flake tools, stone blade inserts, and ivory ornamental carvings.

During 1956-61, these cultural items were recovered by Dr. J. Louis Giddings during legally authorized excavations from a series of burials at Cape Krusenstern, Battle Rock Site vicinity, and the Choris Peninsula from five features judged to be former surface burials where all skeletal remains had completely decayed.

Based on geographic location, archeological evidence, and types of objects, these cultural items have been affiliated with Inupiat Eskimo culture and specifically with the Native Village of Kotzebue. This determination of cultural affiliation has been based upon the continuity of Native Americans in the Kotzebue area and their oral tradition that the area where the remains were found is within their traditional territory.

Based on the above-mentioned information, officials of the Bureau of Land Management have determined that, pursuant to 43 CFR 10.2(d)(2)(ii), these 302 cultural items listed above are reasonably believed to have been placed with or near individual human remains at the time of death or later as part of the death rite or ceremony and are believed, by a preponderance of the evidence, to have been removed from a specific burial site of an Native American individual. Officials of the Bureau of Land Management also have determined that, pursuant to 43 CFR 10.2(e), there is a relationship of shared group identity that can be reasonably traced between these items and the Native Village of Kotzebue. This notice has been sent to officials of the Native Village of Kotzebue. Representatives of any other Indian tribe that believes itself to be culturally affiliated with these unassociated funerary objects should contact Dr. Robert E. King, Alaska State NAGPRA Coordinator, Bureau of Land Management, 222 West 7th Avenue, #13, Anchorage, AK 99513-7599, telephone (907) 271-5510, before November 24, 2000. Repatriation of these unassociated funerary objects to the Native Village of Kotzebue may begin after that date if no additional claimants come forward.

Dated: October 18, 2000.
John Robbins,
Assistant Director, Cultural Resources Stewardship and Partnerships.

[FR Doc. 00-27369 Filed 10-24-00; 8:45 am]

BILLING CODE 4310-70-F